DEPARTMENT OF DEFENSE

Department of the Army

Final Environmental Impact Statement for Real Property Master Plan Implementation at Military Ocean Terminal Sunny Point, North Carolina (ID# EISX-007-21-001-1751989587)

AGENCY: Department of the Army, DoD.

ACTION: Notice of availability.

SUMMARY: The Department of the Army (Army) announces the availability of the Final Environmental Impact Statement (FEIS) for implementing proposed real property actions at Military Ocean Terminal Sunny Point (MOTSU), North Carolina. This FEIS evaluates the potential effects of the implementation of various projects needed for the safety and mission of the facility and provides an analysis of the effects of implementing real property maintenance, repair, upgrade, and development actions. The proposed action is needed to address improvements to real property related to explosive safety, waterfront maintenance, security, and linear infrastructure. The projects and programs address compliance with federal, state, DoD, and Army standards vital to safety, security, and other mission needs. The document includes a final Finding of No Practicable Alternative (FONPA) prepared because portions of the proposed action occur in floodplains or involve construction in wetlands, or both.

FOR FURTHER INFORMATION CONTACT: Frederick Rice, Director, Public and Congressional Affairs Office, Military Surface Deployment and Distribution Command; telephone: (618) 220-6284; email: frederick.l.rice.civ@army.mil.

SUPPLEMENTARY INFORMATION: MOTSU is the Military Surface Deployment and Distribution Command's East Coast strategic ammunition port and is among DoD's seaports supporting global operations. The proposed action includes barricade safety, waterfront maintenance, Pleasure Island Explosive Safety Clear Zone security, linear infrastructure (e.g., roads, rail, utilities, and firebreaks), stormwater mitigation, and cantonment area infill. The proposed action also includes modernizing operation areas and general repair and maintenance of infrastructure, to include facilities, wharves, roads, rail, utilities, and perimeter security. The proposed projects address critical mission requirements and are planned for fiscal years 2026 through 2031.

The FEIS evaluates the potential effects associated with implementing the proposed RPMP activities, to include analyzing Full-Plan Implementation, a Partial Implementation Alternative, and a No-Action Alternative. The FEIS assesses the effects of the alternatives on resources and identifies mitigation measures. Resource areas and potential effects addressed include coastal zone management, air quality, noise, geology and soils, water resources, biological resources, and cultural resources. Consultation with applicable regulatory agencies has been concluded.

Executive Order (E.O.) 11988, Floodplain Management, requires that if an agency finds that the only practicable alternative for an action requires siting in a floodplain, the agency shall design or modify its action in order to minimize potential harm to or within the floodplain. Under E.O. 11990, Protection of Wetlands, an agency must avoid undertaking new construction in wetlands unless the agency finds that there is no practicable alternative to such construction. The Army determined that elements of the proposed action must be located within portions of the floodplain and wetlands at MOTSU. Accordingly, a FONPA—i.e., a description of the anticipated impacts and reasoning why the only practicable alternative is to locate the proposed action within floodplains and wetlands—has been prepared and included in the FEIS.

The FEIS is available on the project website at: https://www.amc.army.mil/Resources/Environmental-Information/. This notice that the FEIS is available to the public starts a 30-day waiting period. No sooner than the conclusion of that waiting period, the Army will publish a Record of Decision.

(Authority: 42 U.S.C. 4321 et seq. (1969)).

James W. Satterwhite Jr.,
U.S. Army Federal Register Liaison Officer.

[FR Doc. 2025-15573 Filed 8-14-25; 8:45 am]

BILLING CODE 3711-CC-P